NATIONAL SCIENCE FOUNDATION

Advisory Committee for Environmental Research and Education; Notice of Meeting

In accordance with the Federal Advisory Committee Act (Pub. Law 92-463, as amended), the National Science Foundation announces the following meeting:

Name: Advisory Committee for Environmental Research and Education (9487).

Dates: April 11, 2007, 9 a.m.-5 p.m.

Place: Stafford I, Room 1235, National Science Foundation, 4201Wilson Blvd., Arlington, Virginia 22230.

Type of Meeting: Open.

Contact Person: Alan Tessier, National Science Foundation, Suite 635, 4201 Wilson Blvd, Arlington, Virginia 22230, Phone 703-292-7198.

Minutes: May be obtained from the contact person listed above.

Purpose of Meeting: To provide advice, recommendations, and oversight concerning support for environmental research and education.

Agenda:

Introduction of New Members.

Update on recent NSF environmental activities.

Reports from AC members on ERE activities in NSF Directorates.

Discussion of Future AC/ERE activities.

Establishment of AC/ERE Task Groups.

Meeting with the Director (or Representative).

Dated: March 13, 2007.
Susanne Bolton,
Committee Management Officer.

[FR Doc. E7-4879 Filed 3-16-07; 8:45 am]

BILLING CODE 7555-01-P